DEPARTMENT OF COMMERCE

National Oceanic and Atmospheric Administration Science Advisory Board

AGENCY: Office of Oceanic and Atmospheric Research, NOAA, Commerce.

ACTION: Notice of open meeting.

SUMMARY: The Science Advisory Board (SAB) was established by a Decision Memorandum dated September 25, 1997, and is the only Federal Advisory Committee with responsibility to advise the Under Secretary of Commerce for Oceans and Atmosphere on long- and short-range strategies for research, education, and application of science to resource management and environmental assessment and prediction. SAB activities and advice provide necessary input to ensure that National Oceanic and Atmospheric Administration (NOAA) science programs are of the highest quality and provide optimal support to resource management.

Time and Date: The meeting will be held Tuesday, November 5, 2002, from 8:30 a.m. to 12 p.m.; Wednesday, November 6, 2002, from 1:30 p.m. to 5 p.m.; and Thursday, November 7, from 8:30 a.m. to 12 p.m. These times and the agenda topics described below may be subject to change. Refer to the web page listed below for a final meeting agenda.

Place: The meeting will be held on Tuesday, November 5 in Conference Room A at the Oklahoma College of Continuing Education Forum at 1700 Asp Avenue in Norman, OK. On Wednesday November 6 and Thursday November 7 the meeting will be held in Conference Rooms D and E at the United States Postal Service National Center for Employee Development, Training and Conference Center, 2805 Highway 9 East, in Norman.

Status: The meeting will be open to public participation with two 30-minute time periods set aside for direct verbal comments or questions from the public. The SAB expects that public statements presented at its meetings will not be repetitive of previously submitted verbal or written statements. In general, each individual or group making a verbal presentation will be limited to a total time of five (5) minutes. Written comments (at least 35 copies) should be received in the SAB Executive Director's Office by Monday October 28, 2002, to provide sufficient time for SAB review. Written comments received by the SAB Executive Director after October 28, 2002, will be distributed to the SAB, but may not be reviewed prior to the meeting date. Approximately thirty (30) seats will be available for the public including five (5) seats reserved for the media. Seats will be available on a first-come, first-served basis.

Matters to be Considered: The meeting will include the following topics: (1) The NOAA Climate Change Research Initiative, (2) reports on program and laboratory reviews conducted under the auspices of the SAB, (3) briefings and discussions on activities of SAB subcommittees and working groups, (4) the NOAA National Severe Storms Laboratory, (5) the Cooperative Institute for Mesoscale Meteorological Studies (6) House of Representatives proposed language to institutionalize the SAB, (7) Fiscal Year 2003 Appropriations for NOAA, (8) the National Weather Service—NOAA Research Technology Transfer Program, and (9) public statements.

FOR FURTHER INFORMATION CONTACT: Dr. Michael Uhart, Executive Director, Science Advisory Board, NOAA, Rm. 11142, 1315 East-West Highway, Silver Spring, Maryland 20910. (Phone: 301-713-9121, Fax: 301-713-0163, E-mail: Michael.Uhart@noaa.gov); or visit the NOAA SAB website at http://www.sab.noaa.gov.

Louisa Koch,
Acting Assistant Administrator, OAR.

[FR Doc. 02-27166 Filed 10-23-02; 8:45 am]

BILLING CODE 3510-KD-M